DEPARTMENT OF HEALTH AND HUMAN SERVICES

Administration for Children and Families

Submission for OMB Review; Comment Request

Title: State Plan for Child Support under Title IV-D of the Social Security Act (OCSE-100 and OCSE-21-U4).

OMB No.: 0970-0017.

Description: The State plan preprint pages and amendments serve as a contract between the Office of Child Support Enforcement and State and Territory IV-D agencies. These State plan preprint pages and amendments outline the activities States and Territories will perform as required by law, in Section 454 of the Social Security Act, in order for States and Territories to receive Federal funds to meet the costs of child support enforcement.

Respondents: State and Territory IV-D Agencies.

Annual Burden Estimates
Instrument | Number of respondents | Number of responses per respondent | Average burden hours per response | Total burden hours
State Plan (OCSE-100) | 54 | 8 | .5 | 216
State Plan Transmittal (OCSE-21-U4) | 54 | 8 | .25 | 108

Estimated Total Annual Burden Hours: 324.

SUPPLEMENTARY INFORMATION: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: August 15, 2007.
Robert Sargis,
Reports Clearance Officer.

[FR Doc. 07-4081 Filed 8-20-07; 8:45 am]

BILLING CODE 4184-01-M